SECURITIES AND EXCHANGE COMMISSION

Sunshine Act Meeting

Notice is hereby given, pursuant to the provisions of the Government in the Sunshine Act, Public Law 94-409, that the Securities and Exchange Commission will hold an Open Meeting on November 2, 2009, at 10 a.m., in Room 10800, to hear oral argument on an appeal by Guy P. Riordan from an initial decision of an administrative law judge. The law judge found that, from around 1996 to December 2002, Riordan, a former registered representative associated with Wachovia Securities, LLC, in its Albuquerque, New Mexico, branch office, violated the antifraud provisions by making secret cash payments to the New Mexico State Treasurer in exchange for securities business from the Treasurer's Office. The law judge barred Riordan from associating with any broker or dealer; imposed a cease-and-desist order; ordered disgorgement of $1,017,278.78, plus prejudgment interest; and assessed a $500,000 third-tier civil penalty.

Among the issues likely to be argued are whether Riordan engaged in the conduct alleged, whether that conduct constituted securities fraud and, if so, the extent to which sanctions should be imposed.

Commissioner Casey, as duty officer, determined that no earlier notice thereof was possible.

At times, changes in Commission priorities require alterations in the scheduling of meeting items.

For further information and to ascertain what, if any, matters have been added, deleted or postponed, please contact:

The Office of the Secretary at (202) 551-5400.

Dated: October 28, 2009.
Elizabeth M. Murphy,
Secretary.

[FR Doc. E9-26257 Filed 10-28-09; 4:15 pm]

BILLING CODE 8011-01-P